Proclamation 8374 of May 7, 2009

National Day of Prayer, 2009

By the President of the United States of America

A Proclamation

Throughout our Nation’s history, Americans have come together in moments of great challenge and uncertainty to humble themselves in prayer. In 1775, as the Continental Congress began the task of forging a new Nation, colonists were asked to observe a day of quiet humiliation and prayer. Almost a century later, as the flames of the Civil War burned from north to south, President Lincoln and the Congress once again asked the American people to pray as the fate of their Nation hung in the balance.

It is in that spirit of unity and reflection that we once again designate the first Thursday in May as the National Day of Prayer. Let us remember those who came before us, and let us each give thanks for the courage and compassion shown by so many in this country and around the world.

On this day of unity and prayer, let us also honor the service and sacrifice of the men and women of the United States Armed Forces. We celebrate their commitment to uphold our highest ideals, and we recognize that it is because of them that we continue to live in a Nation where people of all faiths can worship or not worship according to the dictates of their conscience.

Let us also use this day to come together in a moment of peace and goodwill. Our world grows smaller by the day, and our varied beliefs can bring us together to feed the hungry and comfort the afflicted; to make peace where there is strife; and to lift up those who have fallen on hard times. As we observe this day of prayer, we remember the one law that binds all great religions together: the Golden Rule, and its call to love one another; to understand one another; and to treat with dignity and respect those with whom we share a brief moment on this Earth.

The Congress, by Public Law 100-307, as amended, has called on the President to issue each year a proclamation designating the first Thursday in May as a “National Day of Prayer.”

NOW, THEREFORE, I, BARACK OBAMA, President of the United States of America, do hereby proclaim May 7, 2009, as a National Day of Prayer. I call upon Americans to pray in thanksgiving for our freedoms and blessings and to ask for God’s continued guidance, grace, and protection for this land that we love.

IN WITNESS WHEREOF, I have hereunto set my hand this seventh day of May, in the year of our Lord two thousand nine, and of the Independence of the United States of America the two hundred and thirty-third.

[FR Doc. E9-11124

Filed 5-8-09; 11:15 am]

Billing code 3195-W9-P